DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them. Additionally, OFAC is publishing updates to the identifying information of one person currently included on the SDN List.

DATES: See SUPPLEMENTARY INFORMATION section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (www.treasury.gov/ofac).

Notice of OFAC Actions

A. On February 28, 2023, OFAC determined that the property and interests in property subject to U.S. jurisdiction of the following person are blocked under the relevant sanctions authority listed below.

1. CISNEROS HERNANDEZ, Jesus, Mexico; DOB 08 Jun 1989; POB Jalisco, Mexico; nationality Mexico; Gender Male; C.U.R.P. CIHJ890608HJCSRS09 (Mexico) (individual) [ILLICIT-DRUGS-EO14059].

Designated pursuant to section 1(b)(i) of Executive Order 14059 of December 15, 2021, “Imposing Sanctions on Foreign Persons Involved in the Global Illicit Drug Trade,” 86 FR 71549 (December 17, 2021) (E.O. 14059) for having provided or attempted to provide, financial, material, or technological support for, or goods or services in support of Cartel De Jalisco Nueva Generacion (CJNG), a person sanctioned pursuant to E.O. 14059.

B. On February 28, 2023, OFAC updated the entry on the SDN List for the following person, whose property and interests in property subject to U.S. jurisdiction continue to be blocked under the relevant sanctions authority listed below.

C. On March 2, 2023, OFAC determined that the property and interests in property subject to U.S. jurisdiction of the following persons are blocked under the relevant sanctions authority listed below.

1. CORPORATIVO TITLE I, S.A. DE C.V., Guadalajara, Jalisco, Mexico; Folio Mercantil No. 85318 (Mexico) [ILLICIT-DRUGS-EO14059].

Designated pursuant to section 1(b)(iii) of E.O. 14059 for being owned, controlled, or directed by, or to have acted or purported to act for or on behalf of, directly or indirectly, CJNG, a person sanctioned pursuant to E.O. 14059.

2. CORPORATIVO TS BUSINESS INC, S.A. DE C.V., Guadalajara, Jalisco, Mexico; Folio Mercantil No. 86007 (Mexico) [ILLICIT-DRUGS-EO14059].

Designated pursuant to section 1(b)(iii) of E.O. 14059 for being owned, controlled, or directed by, or to have acted or purported to act for or on behalf of, directly or indirectly, CJNG, a person sanctioned pursuant to E.O. 14059.

3. INTEGRACION BADEVA, S.A. DE C.V., Puerto Vallarta, Jalisco, Mexico; Folio Mercantil No. 16553 (Mexico) [ILLICIT-DRUGS-EO14059].

Designated pursuant to section 1(b)(iii) of E.O. 14059 for being owned, controlled, or directed by, or to have acted or purported to act for or on behalf of, directly or indirectly, CJNG, a person sanctioned pursuant to E.O. 14059.

4. JM PROVIDERS OFFICE, S.A. DE C.V., Blvd. Francisco Medina Ascencio S/N Int. 36, Col. Zona Hotelera Norte, Puerto Vallarta, Jalisco C.P. 48333, Mexico; Bahia de Banderas, Nayarit, Mexico; R.F.C. JPO151113I59 (Mexico); Folio Mercantil No. 2107 (Mexico) [ILLICIT-DRUGS-EO14059].

Designated pursuant to section 1(b)(iii) of E.O. 14059 for being owned, controlled, or directed by, or to have acted or purported to act for or on behalf of, directly or indirectly, CJNG, a person sanctioned pursuant to E.O. 14059.

5. PROMOTORA VALLARTA ONE, S.A. DE C.V. (a.k.a. INTELECTO BUSINESS GROOP), Bucerias, Nayarit, Mexico; Avenida Paseo de los Heroes 10289, Piso 3 3006, Colonia Zona Urbana Rio Tijuana, Tijuana, Baja California C.P.22505, Mexico; Folio Mercantil No. 1769 (Mexico) [ILLICIT-DRUGS-EO14059].

Designated pursuant to section 1(b)(iii) of E.O. 14059 for being owned, controlled, or directed by, or to have acted or purported to act for or on behalf of, directly or indirectly, CJNG, a person sanctioned pursuant to E.O. 14059.

6. RECSERVI, S.A. DE C.V., Bucerias, Nayarit, Mexico; Folio Mercantil No. 1771 (Mexico) [ILLICIT-DRUGS-EO14059].

Designated pursuant to section 1(b)(iii) of E.O. 14059 for being owned, controlled, or directed by, or to have acted or purported to act for or on behalf of, directly or indirectly, CJNG, a person sanctioned pursuant to E.O. 14059.

7. SERVICIOS ADMINISTRATIVOS FORDTWOO, S.A. DE C.V., Calle Francia 394, Colonia Versalles, Puerto Vallarta, Jalisco, Mexico; Plaza Genovesa S/N L 39, Puerto Vallarta, Jalisco 48305, Mexico; Bucerias, Nayarit, Mexico; Calle Isla Antigua 3017, Colonia Residencial de la Cruz, Guadalajara, Jalisco C.P. 44970, Mexico; R.F.C. SAF130812CL4 (Mexico); Folio Mercantil No. 1754 (Mexico) [ILLICIT-DRUGS-EO14059].

Designated pursuant to section 1(b)(iii) of E.O. 14059 for being owned, controlled, or directed by, or to have acted or purported to act for or on behalf of, directly or indirectly, CJNG, a person sanctioned pursuant to E.O. 14059.

8. TS BUSINESS CORPORATIVO, S.A. DE C.V., Guadalajara, Jalisco, Mexico; Folio Mercantil No. 86141 (Mexico) [ILLICIT-DRUGS-EO14059].

Designated pursuant to section 1(b)(iii) of E.O. 14059 for being owned, controlled, or directed by, or to have acted or purported to act for or on behalf of, directly or indirectly, CJNG, a person sanctioned pursuant to E.O. 14059.

Dated: March 3, 2023.
Andrea M. Gacki,
Director, Office of Foreign Assets Control, U.S. Department of the Treasury.

[FR Doc. 2023-04729 Filed 3-7-23; 8:45 am]

BILLING CODE 4810-AL-P